DEPARTMENT OF HOMELAND SECURITY

Coast Guard

33 CFR Part 165

[Docket No. USCG-2022-0419]

Security Zone; Portland Rose Festival on Willamette River

AGENCY: Coast Guard, DHS.

ACTION: Notification of enforcement of regulation.

SUMMARY: The Coast Guard will enforce the security zone for the Portland Rose Festival on the Willamette River in Portland, OR, from noon on June 8, 2022 through noon on June 13, 2022. This action is necessary to ensure the security of vessels participating in the 2022 Portland Rose Festival on the Willamette River during the event. Our regulation for the Portland Rose Festival on the Willamette River designates the regulated area and identifies the approximate dates for this event. The specific dates and times are identified in this document. These regulations prohibit persons and vessels from being in the regulated area unless authorized by the Captain of the Port Sector Columbia River or a designated representative.

DATES: The regulations in 33 CFR 165.1312 will be enforced from noon on June 8, 2022 through noon on June 13, 2022.

FOR FURTHER INFORMATION CONTACT: If you have questions about this notification of enforcement, call or email LT Sean Murphy, Waterways Management Division, Marine Safety Unit Portland, U.S. Coast Guard; telephone 503-240-9319, email D13-SMB-MSUPortlandWWM@uscg.mil.

SUPPLEMENTARY INFORMATION: The Coast Guard will enforce the security zone for the Portland Rose Festival in 33 CFR 165.1312 for the Willamette River regulated area from noon on June 8, 2022 through noon on June 13, 2022. This action is necessary to ensure the security of vessels participating in the 2022 Portland Rose Festival on the Willamette River during the event. Under the Provisions of 33 CFR 165.1312 and subpart D of part 165, no person or vessel may enter or remain in the security zone, consisting of all waters of the Willamette River, from surface to bottom, encompassed by the Hawthorne and Steel Bridges, without permission from the Captain of the Port Columbia River. Persons or vessels wishing to enter the security zone may request permission to do so from the on-scene Captain of the Port representative via VHF Channel 16 or 13. The Coast Guard may be assisted by other Federal, State, or local enforcement agencies in enforcing this regulation.

In addition to this notification of enforcement in the Federal Register, the Coast Guard plans to provide notification of this enforcement period via the Local Notice to Mariners and marine information broadcasts.

Dated: May 19, 2022.
G.M. Bailey,
Captain, U.S. Coast Guard, Alternate Captain of the Port Columbia River.

[FR Doc. 2022-11191 Filed 5-24-22; 8:45 am]

BILLING CODE 9110-04-P